SECURITIES AND EXCHANGE COMMISSION

Sunshine Act Meeting

Federal Register Citation of Previous Announcement:

[65 FR 77054, December 8, 2000]

STATUS: Closed meeting.

PLACE: 450 Fifth Street, N.W., Washington, D.C.

DATE PREVIOUSLY ANNOUNCED: December 6, 2000.

CHANGE IN THE MEETING: Time change.

The closed meeting scheduled for Thursday, December 14, 2000 at 11:00 a.m., has been changed to Thursday, December 14, 2000, at 11:30 a.m.

At times, changes in Commission priorities require alterations in the scheduling of meeting items. For further information and to ascertain what, if any, matters have been added, deleted or postponed, please contact:

The Office of the Secretary at (202) 942-7070.

Dated: December 12, 2000.
Jonathan G. Katz,
Secretary.

[FR Doc. 00-32070 Filed 12-12-00; 4:49 pm]

BILLING CODE 8010-01-M